DEPARTMENT OF ENERGY

Federal Energy Regulatory Commission

[Docket No. IC23-4-000]

Commission Information Collection Activities (FERC-73) Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection, FERC Form No. 73, (Oil Pipeline Service Life Data), which will be submitted to the Office of Management and Budget (OMB) for review. No Comments were received on the 60-day notice published on January 19, 2023.

DATES: Comments on the collection of information are due May 1, 2023.

ADDRESSES: Send written comments on FERC-73 to OMB through www.reginfo.gov/public/do/PRAMain. Attention: Federal Energy Regulatory Commission Desk Officer. Please identify the OMB Control Number (1902-0019) in the subject line of your comments. Comments should be sent within 30 days of publication of this notice to www.reginfo.gov/public/do/PRAMain.

Please submit copies of your comments to the Commission. You may submit copies of your comments (identified by Docket No. IC23-4-000) by one of the following methods: Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) delivery: Deliver to: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection. FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION:

Title: FERC Form No. 73, Oil Pipeline Service Life Data.

OMB Control No.: 1902-0019.

Type of Request: Three-year extension of the FERC Form No. 73 information collection requirements with no changes to the current reporting requirements.

Abstract: The Commission collects FERC Form No. 73 information as part of its authority under the Interstate Commerce Act, 49 U.S.C. 60501, et al. FERC Form No. 73 contains necessary information for the review of oil pipeline companies' proposed depreciation rates, as regulated entities are required to provide service life data illustrating the remaining physical life of an oil pipeline's properties. This is used to calculate the company's cost of service and its transportation rates to access customers. The Commission implements these filing reviews under the purview of 18 CFR part 357.3, FERC Form No. 73, Oil Pipeline Data for Depreciation Analysis, and 18 CFR part 347. Parts 357.3 and 347 require an oil pipeline company to submit information under FERC Form No. 73 when: (1) requesting approval for new or changed depreciation rates of an oil pipeline; or (2) being directed by the Commission to file the service life data during an investigation of its book depreciation rates.

Type of Respondent: Oil pipeline companies.

Estimate of Annual Burden:¹

¹ “Burden” is the total time, effort, or financial resources expended by persons to generate, maintain, retain, or disclose or provide information to or for a Federal agency. For further explanation of what is included in the information collection burden, refer to 5 CFR 1320.3.

The Commission estimates the annual public reporting burden for the information collection as below:

FERC Form No. 73, Oil Pipeline Service Life Data
| Number of respondents | Annual number of responses per respondent | Total number of responses | Average burden & cost per response ² | Total annual burden & total annual cost | Cost per respondent ($)
| (1) | (2) | (1) * (2) = (3) | (4) | (3) * (4) = (5) | (5) ÷ (1)
Oil Pipeline Depreciation Analysis | 22 | 1 | 22 | 40 hrs.; $3,640 | 880 hrs.; $80,080 | $3,640

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² The Commission staff estimates the average cost in salary and benefits for the average respondent based on the Commission's 2022 average cost for salary plus benefits at $91/hour.

Dated: March 24, 2023.
Debbie-Anne A. Reese,
Deputy Secretary.

[FR Doc. 2023-06604 Filed 3-29-23; 8:45 am]

BILLING CODE 6717-01-P